DEPARTMENT OF COMMERCE

International Trade Administration

[A-533-899]

Granular Polytetrafluoroethylene Resin From India: Final Results of Antidumping Duty Administrative Review; 2021-2023

AGENCY: Enforcement and Compliance, International Trade Administration, Department of Commerce.

SUMMARY: The U.S. Department of Commerce (Commerce) determines that Gujarat Fluorochemicals Limited (GFCL) made sales of subject merchandise in the United States at prices below normal value during the period of review (POR) September 2, 2021, through February 28, 2023.

DATES: Applicable October 10, 2024.

FOR FURTHER INFORMATION CONTACT: William Horn or Noah Wetzel, AD/CVD Operations, Office VIII, Enforcement and Compliance, International Trade Administration, U.S. Department of Commerce, 1401 Constitution Avenue NW, Washington, DC 20230; telephone: (202) 482-4868 and (202) 482-7466 respectively.

SUPPLEMENTARY INFORMATION:

Background

On April 3, 2024, Commerce published the Preliminary Results and invited interested parties to comment.¹ On July 15, 2024, Commerce extended the deadline for the final results of this administrative review until September 27, 2024.² On July 22, 2024, Commerce tolled certain deadlines in this administrative proceeding by seven days.³ The deadline for the final results is now October 4, 2024. For a summary of the events that occurred since the Preliminary Results, see the Issues and Decision Memorandum.⁴ Commerce conducted this review in accordance with section 751(a) of the Tariff Act of 1930, as amended (the Act).

¹ See Granular Polytetrafluoroethylene Resin from India: Preliminary Results of Antidumping Administrative Review, 89 FR 22989 (April 3, 2024) (Preliminary Results), and accompanying Preliminary Decision Memorandum (PDM).

² See Memorandum, “Extension of Deadline for Final Results of Antidumping Duty Administrative Review,” dated July 15, 2024.

³ See Memorandum, “Tolling of Deadlines for Antidumping and Countervailing Duty Proceedings,” dated July 22, 2024.

⁴ See Memorandum, “Issues and Decision Memorandum for the Final Results of the Administrative Review of the Antidumping Duty Order on Granular Polytetrafluoroethylene Resin from India; 2021-2023,” dated concurrently with this notice (Issues and Decision Memorandum).

Scope of the Order ⁵

⁵ See Granular Polytetrafluoroethylene Resin from India and the Russian Federation: Antidumping Duty Orders, 87 FR 14514 (March 15, 2022) (Order).

The merchandise covered by the Order is granular polytetrafluoroethylene resin (granular PTFE) from India. For a complete description of the scope of the Order, see the Issues and Decision Memorandum.

Analysis of Comments Received

We addressed all issues raised in the case and rebuttal briefs filed in this administrative review in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our evaluation of the comments received from interested parties regarding our Preliminary Results and our analysis of the record, we made certain changes to the weighted-average dumping margin calculation for GFCL, as detailed in the Issues and Decision Memorandum.⁶ For a discussion of the comments, see the Issues and Decision Memorandum.

⁶ See Issues and Decision Memorandum at Comment 2.

Final Results of Review

We determine that the following estimated weighted-average dumping margin exists for the period September 2, 2021, through February 28, 2023:

Exporter/producer | Weighted- average dumping margin (percent)
Gujarat Fluorochemicals Limited | 2.40

Disclosure

We intend to disclose the calculations performed for these final results of review to interested parties within five days of the date of publication of this notice in the Federal Register, in accordance with 19 CFR 351.224(b).

Assessment Rates

Commerce has determined, and U.S. Customs and Border Protection (CBP) shall assess, antidumping duties on all appropriate entries of subject merchandise in accordance with section 751(a)(2)(C) of the Act and 19 CFR 351.212(b). Pursuant to 19 CFR 351.212(b)(1), because GFCL reported the entered value for its U.S. sales, we calculated importer-specific ad valorem duty assessment rates based on the ratio of the total amount of antidumping duties calculated for the examined sales to the total entered value of those sales. Where an importer-specific assessment rate is zero or de minimis, we will instruct CBP to liquidate the appropriate entries without regard to antidumping duties.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Consistent with Commerce's clarification of its assessment practice, for entries of subject merchandise during the POR produced by GFCL where it did not know that the merchandise was destined for the United States, we will instruct CBP to liquidate those entries at the all-others rate established in the original less-than-fair-value (LTFV) investigation of 10.01 percent ad valorem,⁷ if there is no rate for the intermediate company(ies) involved in the transaction.⁸

⁷ See Order, 87 FR at 14515.

⁸ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for GFCL will be equal to the weighted-average dumping margin established in the final results of this administrative review; (2) for merchandise exported by a producer or exporter not covered in this review but covered in a prior segment of the proceeding, the cash deposit rate will continue to be the company-specific rate published for the most recently completed segment of this proceeding in which the producer or exporter participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 10.01 percent ad valorem, the all-others rate established in the LTFV investigation.⁹ These cash deposit requirements, when imposed, shall remain in effect until further notice.

⁹ See Order, 87 FR at 14515.

Notification to Importers Regarding the Reimbursement of Duties

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: October 4, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Calculation of Certain U.S. Movements Expenses

Comment 2: Correction of Clerical Errors

VI. Recommendation

[FR Doc. 2024-23501 Filed 10-9-24; 8:45 am]

BILLING CODE 3510-DS-P